DEPARTMENT OF STATE

[Public Notice: 7054]

Bureau of Educational and Cultural Affairs; Edmund S. Muskie Graduate Fellowship Program

Notice: Correction to original Request for Grant Proposals.

SUMMARY: The United States Department of State, Bureau of Educational and Cultural Affairs, announces a revision to the original Request for Grant Proposals (RFGP) for the Edmund S. Muskie Graduate Fellowship Program, announced in the Federal Register on May 13, 2010 (Volume 75, Number 92):

Due to a clerical error, section IV.3f of the announcement states the deadline for this competition as June 21. The correct deadline, as stated in the header of the announcement, is June 23, 2010. All other terms and conditions of the original announcement remain the same.

Additional Information

Interested organizations should contact Micaela Iovine, U.S. Department of State, Office of Academic Exchange Programs, ECA/A/E/EUR, (202) 632-9462 prior to the deadline.

Dated: June 11, 2010.
Maura M. Pally,
Acting Assistant Secretary for Educational and Cultural Affairs, U.S. Department of State.

[FR Doc. 2010-14702 Filed 6-16-10; 8:45 am]

BILLING CODE 4710-11-P